DEPARTMENT OF HEALTH AND HUMAN SERVICES

National Institutes of Health

National Cancer Institute; Notice of Meeting

Pursuant to section 10(d) of the Federal Advisory Committee Act, as amended (5 U.S.C. Appendix 2), notice is hereby given of the meeting of the Director's Consumer Liaison Group.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(6) and 552b(c)(9)(B), Title 5 U.S.C., as amended. The discussions could reveal information of a personal nature where disclosure would constitute a clearly unwarranted invasion of personal privacy and the premature disclosure of discussions related to personnel and programmatic issues would likely to significantly frustrate the subsequent implementation of recommendations.

Name of Committee: Director's Consumer Liaison Group.

Date: April 17-18, 2000.

Open: April 17, 2000, 8:30 AM to 5:00 PM.

Agenda: NCI Director's Report; Status of the NCI Communications Reorganization; Clinical Trial System; Accessibility and appropriateness of NCI services and resources.

Place: National Institutes of Health, Natcher Conference Center, Conference Room D, Bethesda, MD 20892.

Closed: April 18, 2000, 8:30 AM to 4:00 PM.

Agenda: To discuss confidential administrative and personnel issues related to membership and functioning of the DCLG.

Place: National Institutes of Health, Natcher Conference Center, Conference Room D, Bethesda, MD 20892.

Contact Person: Elaine Lee, Acting Executive Secretary, Office of Liaison Activities, National Institutes of Health, National Cancer Institute, Federal Building 6C10, Bethesda, MD 20892, (301) 594-3194.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: March 22, 2000.
LaVerne Stringfield,
Director, Office of Federal Advisory Committee Policy.

[FR Doc. 00-8100 Filed 3-31-00; 8:45 am]

BILLING CODE 4140-01-M